DEPARTMENT OF JUSTICE

Justice Management Division; Agency Information Collection Activities: Proposed Collection; Comments Requested

ACTION: 60-Day Notice of Information Collection Under Review; Certification of Identity.

The Department of Justice, Justice Management Division, has submitted the following information collection request to the Office of Management and Budget for review and clearance in accordance with the Paperwork Reduction Act of 1995. This proposed information collection is published to obtain comments from the public and affected agencies. Comments are encouraged and will be accepted until December 15, 2003.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility and clarity of the information to be collected; and

—Minimize the burden of the collection of information on those who are to respond, including through the use of appropriate automated, electronic, mechanical, or other technological collection techniques or other forms of information technology, e.g., permitting electronic submission of responses.

If you have additional comments, suggestions, or need a copy of the proposed information collection instrument with instructions, or additional information, please contact Patricia D. Harris, FOIA/PA Coordinator, Mail Management Services, Facilities and Administrative Services Staff, Justice Management Division, United States Department of Justice, 10th and Pennsylvania Ave., NW, Washington, DC 20530, or via facsimile (301) 436-1036.

Overview of this Collection:

(1) The type of information collection: Extension of a currently approved collection.

(2) The title of the form/collection: Certification of Identity.

(3) Agency form number, if any, and the applicable component of the Department of Justice sponsoring the collection: Form: DOJ-361. Facilities and Administrative Services Staff, Justice Management Division, U.S. Department of Justice.

(4) Affected public who will be asked or required to respond, as well as a brief abstract: Primary: Individuals. The information collection will be used by the Department to identify individuals requesting certain records under the Privacy Act. Without this form an individual cannot obtain the information requested.

(5) An estimate of the total number of respondents and the amount of time estimated for an average respondent to respond: 55,478 respondents at ½ hour per response.

(6) An estimate of the total public burden (in hours) associated with the collection: 27,739 annual burden hours.

FOR FURTHER INFORMATION CONTACT: Brenda E. Dyer, Department Deputy Clearance Officer, United States Department of Justice, Policy and Planning Staff, Justice Management Division, Suite 1600, 601 D Street, NW., Washington, DC 20530.

Dated: October 3, 2003.
Brenda E. Dyer,
Department Deputy Clearance Officer, United States Department of Justice.

[FR Doc. 03-25963 Filed 10-10-03; 8:45 am]

BILLING CODE 4410-CW-P